DEPARTMENT OF ENERGY

Federal Energy Regulatory Commission

Combined Notice of Filings #2

Take notice that the Commission received the following electric rate filings:

Docket Numbers: ER12-2302-005.

Applicants: Midcontinent Independent System Operator, Inc.

Description: Compliance filing: 2016-07-14_SSR 2016 Revisions Follow-Up Compliance Filing to be effective 9/24/2012.

Filed Date: 7/14/16.

Accession Number: 20160714-5045.

Comments Due: 5 p.m. ET 8/4/16.

Docket Numbers: ER13-1896-010; ER14-594-008.

Applicants: AEP Generation Resources Inc., Ohio Power Company.

Description: Notice of change in status of AEP Generation Resources Inc. and Ohio Power Company, et al.

Filed Date: 5/27/16.

Accession Number: 20160527-5263.

Comments Due: 5 p.m. ET 8/4/16.

Docket Numbers: ER16-2193-000.

Applicants: PacifiCorp.

Description: § 205(d) Rate Filing: Georgia-Pacific Construction Agreement—Camas to be effective 9/13/2016.

Filed Date: 7/14/16.

Accession Number: 20160714-5072.

Comments Due: 5 p.m. ET 8/4/16.

Docket Numbers: ER16-2195-000.

Applicants: Pacific Gas and Electric Company.

Description: Notice of Termination of Service Agreement Nos. 13 and 14 of Pacific Gas and Electric Company.

Filed Date: 7/14/16.

Accession Number: 20160714-5089.

Comments Due: 5 p.m. ET 8/4/16.

Docket Numbers: ER16-2196-000.

Applicants: Alabama Power Company.

Description: Tariff Cancellation: GCL Lincoln Power SGIA Termination Filing to be effective 7/1/2016.

Filed Date: 7/14/16.

Accession Number: 20160714-5091.

Comments Due: 5 p.m. ET 8/4/16.

Docket Numbers: ER16-2197-000.

Applicants: PJM Interconnection, L.L.C.

Description: § 205(d) Rate Filing: Service Agreement No. 3831, Queue Position Z1-072 to be effective 6/14/2016.

Filed Date: 7/14/16.

Accession Number: 20160714-5108.

Comments Due: 5 p.m. ET 8/4/16.

Take notice that the Commission received the following qualifying facility filings:

Docket Numbers: QF16-1046-000.

Applicants: Tate & Lyle Ingredients Americas LLC.

Description: Form 556 of Tate & Lyle Ingredients Americas LLC.

Filed Date: 7/13/16.

Accession Number: 20160713-5102.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 14, 2016.
Nathaniel J. Davis, Sr.,
Deputy Secretary.

[FR Doc. 2016-17105 Filed 7-19-16; 8:45 am]

BILLING CODE 6717-01-P